COMMITTEE FOR PURCHASE FROM PEOPLE WHO ARE BLIND OR SEVERELY DISABLED

Procurement List; Proposed Addition and Deletions

AGENCY: Committee for Purchase From People Who are Blind or Severely Disabled.

ACTION: Proposed addition to and deletions from Procurement List.

SUMMARY: The Committee is proposing to add to the Procurement List a product to be furnished by nonprofit agencies employing persons who are blind or have other severe disabilities, and to delete services previously furnished by such agencies.

DATES: Comments Must be Received on or Before: September 4, 2005.

ADDRESSES: Committee for Purchase From People Who Are Blind or Severely Disabled, Jefferson Plaza 2, Suite 10800, 1421 Jefferson Davis Highway, Arlington, Virginia, 22202-3259.

For Further Information or to Submit Comments Contact: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

Addition

If the Committee approves the proposed addition, the entities of the Federal government identified in this notice for each product or service will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the government.

2. If approved, the action will result in authorizing small entities to furnish the products to the government.

3. There are no known regulatory alternatives which would accomplish the objectives of the Javits-Wagner-O'Day Act (41 U.S.C. 46-48c) in connection with the products proposed for addition to the Procurement List. Comments on this certification are invited.

Commenters should identify the statement(s) underlying the certification on which they are providing additional information.

(End of Certification)

The following product is proposed for addition to Procurement List for production by the nonprofit agencies listed:

Product

Tape, Baggage Inspection.

NSN: 7510-00-NIB-0673—2″ (inches) wide by 110 yards long.

NPA: Cincinnati Association for the Blind, Cincinnati, OH.

Contracting Activity: Transportation Security Administration, Arlington, VA.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the services to the government.

3. There are no known regulatory alternatives which would accomplish the objectives of the Javits-Wagner-O'Day Act (41 U.S.C. 46-48c) in connection with the services proposed for deletion from the Procurement List.

(End of Certification)

The following services are proposed for deletion from the Procurement List:

Services

Service Type/Location: Dispatcher/Federal Building, 222 West 7th Avenue, Anchorage, AK.

NPA: Portland Habilitation Center, Inc., Portland, OR.

Contracting Activity: General Services Administration.

Service Type/Location: Grounds Maintenance/Federal Aviation Administration Air Route Traffic, Auburn, WA.

NPA: None currently authorized.

Contracting Activity: Department of Transportation.

Service Type/Location: Janitorial/Custodial/Hill City Office and Shop, Hill City, SD.

NPA: Southern Hills Developmental Services, Inc., Hot Springs, SD.

Contracting Activity: Department of Interior, Reston, VA.

Service Type/Location: Janitorial/Custodial/U.S. Fish & Wildlife Service (Bosque del Apache National Wildlife Refuge), Socorro, NM.

NPA: Tresco, Inc., Las Cruces, NM.

Contracting Activity: Department of Interior, Reston, VA.

G. John Heyer,
General Counsel.

[FR Doc. E5-4222 Filed 8-4-05; 8:45 am]

BILLING CODE 6353-01-P